DEPARTMENT OF THE TREASURY

Internal Revenue Service

26 CFR Part 1

[TD 9167]

RIN 1545-BC81

Student FICA Exception; Correction

AGENCY: Internal Revenue Service (IRS), Treasury.

ACTION: Correction to final regulations.

SUMMARY: This document corrects final regulations (TD 9167), that were published in the Federal Register on Tuesday, December 21, 2004 (69 FR 76404) that provides guidance regarding the employment tax exceptions for student services. These regulations affect schools, colleges, and universities and their employees.

DATES: This correction is effective December 21, 2004.

FOR FURTHER INFORMATION CONTACT: John Richards, (202) 622-6040 (not a toll-free number).

SUPPLEMENTARY INFORMATION:

Background

The final regulations (TD 9167) that is the subject of this correction is under sections 3121(b)(10) and 3306(c)(10)(B) of the Internal Revenue Code.

Need for Correction

As published, the final regulations (TD 9167) contain an error that may prove to be misleading and is in need of clarification.

Correction of Publication

Accordingly, the publication of the final regulations (TD 9167) that was the subject of FR. Doc. 04-27919, is corrected as follows:

On page 76405, column 1, in the preamble, under the paragraph heading “Background”, sixth line from the top of the column, the language “and is regularly attending cases at a” is corrected to read “ and is regularly attending classes at a”.

Cynthia E. Grigsby,
Acting Chief, Publications and Regulations Branch, Legal Processing Division, Associate Chief Counsel (Procedures and Administration).

[FR Doc. 05-4279 Filed 3-3-05; 8:45 am]

BILLING CODE 4830-01-P